DEPARTMENT OF HEALTH AND HUMAN SERVICES

Substance Abuse and Mental Health Services Administration

Notice of Meeting

Pursuant to Public Law 92-463, notice is hereby given of the combined meeting on August 27, 2014, of the Substance Abuse and Mental Health Services Administration's (SAMHSA) four National Advisory Councils (the SAMHSA National Advisory Council (NAC), the Center for Mental Health Services NAC, the Center for Substance Abuse Prevention NAC, the Center for Substance Abuse Treatment NAC), and the two SAMHSA Advisory Committees (Advisory Committee for Women's Services, and the Tribal Technical Advisory Committee).

The Councils were established to advise the Secretary, Department of Health and Human Services (HHS), the Administrator, SAMHSA, and Center Directors, concerning matters relating to the activities carried out by and through the Centers and the policies respecting such activities.

Under Section 501 of the Public Health Service Act, the Advisory Committee for Women's Services (ACWS) is statutorily mandated to advise the SAMHSA Administrator and the Associate Administrator for Women's Services on appropriate activities to be undertaken by SAMHSA and its Centers with respect to women's substance abuse and mental health services.

Pursuant to Presidential Executive Order No. 13175, November 6, 2000, and the Presidential Memorandum of September 23, 2004, SAMHSA established the Tribal Technical Advisory Committee (TTAC) for working with Federally-recognized Tribes to enhance the government-to-government relationship, honor Federal trust responsibilities and obligations to Tribes and American Indian and Alaska Natives. The SAMHSA TTAC serves as an advisory body to SAMHSA.

The August 27 combined meeting will include a report from the SAMHSA Administrator, an update and discussion regarding Military members returning home and their families.

The meeting is open to the public and will be held online via Chorus Call and teleconference. Interested persons may present data, information, or views, orally or in writing, on issues pending before the committee. Written submissions should be forwarded to the contact person on or before August 18, 2014. Oral presentations from the public will be scheduled at the conclusion of the meeting. Individuals interested in making oral presentations are encouraged to notify the contact on or before August 18, 2014. Five minutes will be allotted for each presentation.

Substantive program information may be obtained after the meeting by accessing the SAMHSA Committee Web site, http://nac.samhsa.gov/, or by contacting Ms. Wood.

Committee Names: Substance Abuse and Mental Health Services Administration National Advisory Council; Center for Mental Health Services National Advisory; Council Center for Substance Abuse Prevention National Advisory Council; Center for Substance Abuse Treatment National Advisory Council; SAMHSA's Advisory Committee for Women's Services; SAMHSA Tribal Technical Advisory Committee.

Date/Time/Type: Wednesday, August 26, 2014, 1:00 p.m.-3:30 p.m. EDT (OPEN).

Place: Chorus call Web cast: http://services.choruscall.com/links/samhsa140827.html; Call-in Number (866) 652-5200; Passcode: SAMHSA.

Contact: Geretta Wood, Committee Management Officer and Designated Federal Official, SAMHSA National Advisory Council, SAMHSA's Advisory Committee for Women's Services, 1 Choke Cherry Road, Rockville, Maryland 20857, Telephone: (240) 276-2326, Fax: (240) 276-2253 and Email: geretta.wood@samhsa.hhs.gov.

Cathy J. Friedman,
Public Health Analyst, SAMHSA.

[FR Doc. 2014-18166 Filed 7-31-14; 8:45 am]

BILLING CODE 4162-20-P